COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes products and services from the Procurement List that were furnished by nonprofit agencies employing persons who are blind or have other severe disabilities.

DATES: Date deleted from the Procurement List: October 20, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 8/16/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 1103—Heavy Duty Laundry Bag

MR 1116—Duster, Flexible, Multi Microfiber, Red

MR 11012—Grocery Shopping Tote Bag, Laminated, Commissary 150th Anniversary, Interior Scene

MR 11060—Grocery Shopping Tote Bag, Laminated, Summer, Yellow, Small

MR 11059—Grocery Shopping Tote Bag, Laminated, Summer, Pink, Small

MR 11064—Grocery Shopping Tote Bag, Laminated, Halloween, Ghost, Small

MR 381—Gift Box, Sweet Treat, Christmas

Mandatory Source of Supply: Winston-Salem Industries for the Blind, Inc., Winston-Salem, NC

Contracting Activity: Military Resale-Defense Commissary Agency

NSN(s)—Product Name(s):

7530-01-600-2022—Notebook, Spiral Bound, Biobased Bagasse Paper, 5 x 7½″, 80 sheets, College Rule, White

7530-01-600-2024—Notebook, Spiral Bound, Biobased Bagasse Paper, 8½ x 11″, 100 sheets, College Rule, White

Mandatory Source of Supply: Winston-Salem Industries for the Blind, Inc., Winston-Salem, NC

7045-01-599-9347—USB Flash Drive, 256-Bit AES Encryption, Level 3 Encrypted, 4GB

Mandatory Source of Supply: North Central Sight Services, Inc., Williamsport, PA

6645-01-456-5011—Clock, Wall, Slimline, White, Custom Logo, 9¼″ Quartz

6645-01-456-5009—Clock, Wall, Slimline, Stone Gray, Custom Logo, 9¼″ Quartz

6645-01-389-7961—Clock, Wall, Slimline, White, 9¼″ Quartz

6645-01-491-9828—Clock, Wall, Atomic, Bronze, Custom Logo, 9¼″ Diameter

6645-01-491-9822—Clock, Wall, Atomic, Walnut, Custom Logo, 16″ Diameter

Mandatory Source of Supply: Chicago Lighthouse Industries, Chicago, IL

Contracting Activity: GSA/FAS ADMIN SVCS ACQUISITION BR(2, NEW YORK, NY

NSN(s)—Product Name(s):

7045-01-570-8902—Privacy Filter, Notebook, 15.4″ Widescreen

Mandatory Source of Supply: Wiscraft, Inc., Milwaukee, WI

Contracting Activity: STRATEGIC ACQUISITION CENTER, FREDERICKSBURG, VA

NSN(s)—Product Name(s):

5340-01-630-4191—Desktop/Notebook Security Cable, Master-Coded Combination Lock Kit, 20 Lock Kits

Mandatory Source of Supply: Alphapointe, Kansas City, MO

6520-00-926-9041—Bag, Dental Prosthesis

Mandatory Source of Supply: Envision, Inc., Wichita, KS

Contracting Activity: DLA TROOP SUPPORT, PHILADELPHIA, PA

Services

Service Type: Administrative Services

Mandatory for: USDA, Animal and Plant Health Inspection Service, Raleigh, NC

Mandatory Source of Supply: Employment Source, Inc., Fayetteville, NC

Contracting Activity: ANIMAL AND PLANT HEALTH INSPECTION SERVICE, DEPT OF AGRI/ANIMAL & PLANT HLTH INSPECT SVC

Service Type: Photocopying

Mandatory for: Government Printing Office: 710 North Capitol & H Street NW, Washington, DC

Mandatory Source of Supply: Alliance, Inc., Baltimore, MD

Contracting Activity: Government Printing Office

Service Type: Operation of Self Service Supply Store

Mandatory for: Environmental Protection Agency: Waterside Mall Complex, Washington, DC

Mandatory Source of Supply: ServiceSource, Inc., Oakton, VA

Contracting Activity: ENVIRONMENTAL PROTECTION AGENCY

Service Type: Janitorial/Custodial

Mandatory for: Waco Distribution Center: 1801 Exchange Park, Waco, TX

Contracting Activity: DEPT OF THE ARMY, W40M RHCO-ATLANTIC USAHCA

Service Type: Appliance Cleaning Service

Mandatory for: Department of Homeland Security/National Records Center: 150 Space Center Loop, Lee's Summit, MO

Mandatory Source of Supply: JobOne, Independence, MO

Contracting Activity: U.S. CITIZENSHIP AND IMMIGRATION SERVICES, USCIS CONTRACTING OFFICE

Service Type: Janitorial/Custodial

Mandatory for: Umpqua National Forest: 2900 NW Stewart Parkway, Supervisor's Office, Roseburg, OR

Mandatory Source of Supply: Sunrise Enterprises of Roseburg, Inc., Roseburg, OR

Contracting Activity: FOREST SERVICE, UMPQUA NATIONAL FOREST

Service Type: Grounds Maintenance

Mandatory for: U.S. Post Office: Mission Gorge Station, San Diego, CA

Mandatory Source of Supply: Job Options, Inc., San Diego, CA

Contracting Activity: U.S. Postal Service, Washington, DC

Service Type: Grounds Maintenance

Mandatory for: U.S. Post Office: 16960 Bernardo Center Drive, Rancho Bernardo Station, San Diego, CA

Mandatory Source of Supply: Job Options, Inc., San Diego, CA

Contracting Activity: U.S. Postal Service, Washington, DC

Service Type: Custodial Services

Mandatory for: USDA, Forest Service—District Office: 4000 I-75 Business Spur, Sault Sainte Marie, MI

Mandatory Source of Supply: Northern Transitions, Inc., Sault Ste. Marie, MI

Contracting Activity: FOREST SERVICE, HIAWATHA NATIONAL FOREST

Service Type: Janitorial/Custodial

Mandatory for: Fort Hood: Building 50004, Post Exchange, Fort Hood, TX

Contracting Activity: DEPT OF THE ARMY, W40M RHCO-ATLANTIC USAHCA

Service Type: Janitorial/Custodial

Mandatory for: Mount Weather Emergency Assistance Center: Bldgs. 400, 401, 403, 405, 409, 411 (offices and restrooms only), 413, 431 and Walkway, Bluemont, VA

Mandatory Source of Supply: NW Works, Inc., Winchester, VA

Contracting Activity: FEDERAL EMERGENCY MANAGEMENT AGENCY, NETC ACQUISITION SECTION

Service Type: Janitorial/Custodial

Mandatory for: Umpqua National Forest: 2691 NE Diamond Lake Boulevard—Radio Shop, Roseburg, OR

Mandatory Source of Supply: Sunrise Enterprises of Roseburg, Inc., Roseburg, OR

Contracting Activity: AGRICULTURE, DEPARTMENT OF, PROCUREMENT OPERATIONS DIVISION

Service Type: Janitorial/Custodial

Mandatory for: O'Hare Air Reserve Forces Facility: Building #4, Chicago, IL

Mandatory Source of Supply: Jewish Vocational Service and Employment Center, Chicago, IL

Contracting Activity: DEFENSE LOGISTICS AGENCY, DLA SUPPORT SERVICES—DSS

Service Type: Janitorial/Custodial

Mandatory for: Army Air Force Exchange Service—Stoneridge Bldg Park: 8901 Autobahn Dr, Dallas, TX

Mandatory Source of Supply: On Our Own Services, Inc., Houston, TX

Contracting Activity: AAFES-Army & Air Force Exchange Service

Service Type: Grounds Maintenance

Mandatory for: U.S. Post Office: Linda Vista Station, San Diego, CA

Mandatory Source of Supply: Job Options, Inc., San Diego, CA

Contracting Activity: U.S. Postal Service, Washington, DC

Service Type: Janitorial/Custodial

Mandatory for: Fernan Ranger Station, 2502 Sherman Avenue, Coeur d'Alene, ID

Mandatory Source of Supply: Skils'kin, Spokane, WA

Contracting Activity: FOREST SERVICE, IDAHO PANHANDLE NF

Service Type: Printer Toner Cartridge & Ribbons Management

Mandatory for: Veterans Affairs Medical Center, Danville, IL

Mandatory Source of Supply: TRI Industries NFP, Vernon Hills, IL

Contracting Activity: VETERANS AFFAIRS, DEPARTMENT OF, NAC

Service Type: Mailroom Operation

Mandatory for: Federal Highway Administration: 555 Zang Street (Lakewood County), Denver, CO

Mandatory Source of Supply: Bayaud Industries, Inc., Denver, CO

Contracting Activity: TRANSPORTATION, DEPARTMENT OF, DEPT OF TRANS

Service Type: Medical Transcription

Mandatory for: VHA, VISN 3, VA NY/NJ Veterans Healthcare Network, Northport VA Medical Center, Northport, NY

Mandatory Source of Supply: Goodwill Industries of San Antonio Contract Services, San Antonio, TX

Contracting Activity: VETERANS AFFAIRS, DEPARTMENT OF, 243-NETWORK CONTRACTING OFFICE 03

Service Type: Medical Transcription

Mandatory for: VHA, VISN 3, VA NY/NJ Veterans Healthcare Network, VA Hudson Valley Healthcare System, Montrose and Castle Point Campuses-ONLY, Bronx, NY

Mandatory Source of Supply: Goodwill Industries of San Antonio Contract Services, San Antonio, TX

Contracting Activity: VETERANS AFFAIRS, DEPARTMENT OF, 243-NETWORK CONTRACTING OFFICE 03

Service Type: Janitorial/Custodial

Mandatory for: O'Hare International Airport/Air Reserve Station: 928th Airlift Group (AFRES), Chicago, IL

Mandatory Source of Supply: Jewish Vocational Service and Employment Center, Chicago, IL

Contracting Activity: DEPT OF THE AIR FORCE, FA7014 AFDW PK

Service Type: Mailing Services

Mandatory for: Theodore Levin U.S. Courthouse: U.S. District Court, Eastern District of Michigan, Detroit, MI

Mandatory Source of Supply: Jewish Vocational Service and Community Workshop, Southfield, MI

Contracting Activity: U.S. District Court

Service Type: Janitorial/Custodial

Mandatory for: Scott AFB: 126th Air Refueling Wing, Scott Air Force Base, IL

Mandatory Source of Supply: Challenge Unlimited, Inc., Alton, IL

Contracting Activity: DEPT OF THE AIR FORCE, FA7014 AFDW PK

Service Type: Custodial service

Mandatory for: Department of Homeland Security, Assistant Special Agent in Charge (ASAC), San Angelo Homeland Security Investigations, 5575 Stewart Lane, San Angelo, TX

Mandatory Source of Supply: Mavagi Enterprises, Inc., San Antonio, TX

Contracting Activity: U.S. IMMIGRATION AND CUSTOMS ENFORCEMENT, MISSION SUPPORT DALLAS

Service Type: Parts Sorting

Mandatory for: Defense Reutilization and Marketing Office, Barstow, CA

Contracting Activity: DEFENSE LOGISTICS AGENCY, DLA SUPPORT SERVICES—DSS

Service Type: Disposal Support Services

Mandatory for: Defense Reutilization and Marketing Office, Stockton, CA

Contracting Activity: DEFENSE LOGISTICS AGENCY, DLA SUPPORT SERVICES—DSS

Service Type: Janitorial/Custodial

Mandatory for: U.S. Coast Guard: MSO/Group Portland, Portland, OR

Mandatory Source of Supply: Relay Resources, Portland, OR

Contracting Activity: U.S. COAST GUARD, SILC WEST

Patricia Briscoe,
Deputy Director, Business Operations (Pricing and Information Management).

[FR Doc. 2019-20382 Filed 9-19-19; 8:45 am]

BILLING CODE 6353-01-P